FEDERAL DEPOSIT INSURANCE CORPORATION

Notice of Termination; 10394 Patriot Bank of Georgia; Cumming, Georgia

The Federal Deposit Insurance Corporation (FDIC), as Receiver for 10394 Patriot Bank of Georgia, Cumming, Georgia (Receiver) has been authorized to take all actions necessary to terminate the receivership estate of Patriot Bank of Georgia (Receivership Estate); the Receiver has made all dividend distributions required by law.

The Receiver has further irrevocably authorized and appointed FDIC-Corporate as its attorney-in-fact to execute and file any and all documents that may be required to be executed by the Receiver which FDIC-Corporate, in its sole discretion, deems necessary; including but not limited to releases, discharges, satisfactions, endorsements, assignments and deeds.

Effective June 1, 2017, the Receivership Estate has been terminated, the Receiver discharged, and the Receivership Estate has ceased to exist as a legal entity.

Dated: June 12, 2017.
Federal Deposit Insurance Corporation.
Robert E. Feldman,
Executive Secretary.

[FR Doc. 2017-12403 Filed 6-14-17; 8:45 am]

BILLING CODE 6714-01-P